DEPARTMENT OF ENERGY

Notice of 229 Boundary for the Thomas Jefferson National Accelerator Facility (Also Known as Jefferson Lab)

AGENCY: Department of Energy (DOE).

ACTION: Notice of 229 Boundary for the Thomas Jefferson National Accelerator Facility (also known as Jefferson Lab).

SUMMARY: Notice is hereby given that the U.S. Department of Energy, pursuant to Section 229 of the Atomic Energy Act of 1954, as amended, as implemented by 10 CFR part 860 published in the Federal Register on August 26, 1963 (28 FR 8400), prohibits the unauthorized entry, as provided in 10 CFR 860.3 and the unauthorized introduction of weapons or dangerous materials, as provided in 10 CFR 860.4, into or upon the following described facilities of the Thomas Jefferson National Accelerator Facility of the United States Department of Energy. The following amendments are made:

The U.S. Department of Energy installation known as the Thomas Jefferson National Accelerator Facility is located in the Second Civil District of Newport News, Virginia, within the corporate limits of the City of Newport News. The facility is located on a 169 acre federal reservation. North of the DOE-owned land is an eight acre parcel referred to as the Virginia Associated Research Campus (VARC) which is owned and operated by the Commonwealth of Virginia and leased to Southeastern Universities Research Association (SURA) which, in turn, sub-leases five acres of this property to DOE for use in support of the Laboratory. The facility is located on the east side of State Route 143 (Jefferson Avenue), between the intersections of City Center Boulevard and Hogan Drive. The 229 Boundary of this facility is indicated by a combination of main entry signage, chain link fence, and guardrails which surround the facility.

FOR FURTHER INFORMATION CONTACT: Ms. Tracye M. Baber; Real Estate Contracting Officer; DOE Oak Ridge Office; Post Office Box 2001; Oak Ridge, Tennessee 37831; Telephone: (865) 241-5627.

SUPPLEMENTARY INFORMATION: This security boundary is designated pursuant to Section 229 of the Atomic Energy Act of 1954.

Issued in Oak Ridge, Tennessee, on February 22, 2016.
Tracye M. Baber,
Real Estate Contracting Officer.

[FR Doc. 2016-04432 Filed 2-29-16; 8:45 am]

BILLING CODE 6450-01-P